DEPARTMENT OF ENERGY

Federal Energy Regulatory Commission

[Docket No. RP02-241-004]

Southern Star Central Gas Pipeline, Inc. (Formerly Williams Gas Pipelines Central, Inc); Notice of Refund Report

May 28, 2003.

Take notice that on May 22, 2003, Southern Star Central Gas Pipeline, Inc. (Southern Star) formerly Williams Gas Pipelines Central, Inc., tendered for filing a refund report, pursuant to the Commission's order issued April 15, 2003, in the above referenced proceeding, and Southern Star's report of penalty revenue filed April 30, 2002, with subsequent corrections on July 23, 2002, and August 6, 2002.

Southern Star states that the April 15 order directed Southern Star to make refunds within 10 days of the receipt of the order. Southern Star states that it made such refunds on April 25, 2003, and supplied the identical refund report at that time to those parties. Southern Star further states that the refund results from the amount of penalty revenue and the proposed distribution of such revenue collected, for Periods of Daily Balancing (PODB) in 1996 and 1997, pursuant to the provisions of section 9.6 of the General Terms and Conditions (GT&C) of its FERC tariff.

Southern Star states that a copy of its report filing was served on all parties receiving refunds, jurisdictional customers and interested state commissions and parties appearing on the service list for the docket number listed above.

Any person desiring to protest said filing should file a protest with the Federal Energy Regulatory Commission, 888 First Street, NE., Washington, DC 20426, in accordance with § 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 3, 2003.

Magalie R. Salas,
Secretary.

[FR Doc. 03-13993 Filed 6-3-03; 8:45 am]

BILLING CODE 6717-01-P